ADVISORY COUNCIL ON HISTORIC PRESERVATION

Notice of Issuance of the Department of the Army Program Comment for the Preservation of Pre-1919 Historic Army Housing, Associated Buildings and Structures, and Landscape Features

AGENCY: Advisory Council on Historic Preservation.

ACTION: Notice of issuance of the Department of the Army Program Comment for the Preservation of Pre-1919 Historic Army Housing, Associated Buildings and Structures, and Landscape Features.

SUMMARY: The Advisory Council on Historic Preservation has issued a program comment for the U.S. Department of the Army that sets forth the way in which the Army complies with section 106 of the National Historic Preservation Act for its inventory of housing constructed prior to 1919. Management actions covered by the Program Comment include maintenance, repair, rehabilitation, abatement of hazardous materials, mothballing, lease, transfer, and conveyance.

DATES: The Program Comment went into effect on May 17, 2024.

ADDRESSES: Address any questions concerning the Program Comment to Lauren Cooper, Office of Federal Agency Programs, Advisory Council on Historic Preservation, 401 F Street NW, Suite 308, Washington, DC 20001.

FOR FURTHER INFORMATION CONTACT: Lauren Cooper, ACHP Army Liaison, (202) 517-0213, lcooper@achp.gov.

SUPPLEMENTARY INFORMATION: Section 106 of the National Historic Preservation Act, 54 U.S.C. 306108 (section 106), requires federal agencies to consider the effects of projects they carry out, license, or assist (undertakings) on historic properties and to provide the Advisory Council on Historic Preservation (ACHP) a reasonable opportunity to comment with regard to such undertakings. The ACHP has issued the regulations that set forth the process through which federal agencies comply with these duties. Those regulations are codified under 36 CFR part 800 (section 106 regulations).

Under Section 800.14(e) of those regulations, agencies can request the ACHP to provide a “program comment” on a particular category of undertakings in lieu of conducting individual reviews on a case-by-case basis, as set forth in 36 CFR 800.4 through 800.7. An agency can meet its section 106 responsibilities with regard to the effects of those undertakings by taking into account an applicable program comment and following the steps set forth in that comment. The U.S. Department of the Army (Army) sought a program comment for undertakings related to its inventory of approximately 865 housing units constructed prior to 1919, many of which are National Historic Landmarks. Management actions covered by the Program Comment include maintenance, repair, rehabilitation, abatement of hazardous materials, mothballing, lease, transfer, and conveyance, and the Program Comment allows the use of modern readily available industry standard building materials and methods in the implementation of management actions.

The ACHP issued the Program Comment for the Preservation of Pre-1919 Historic Army Housing, Associated Buildings and Structures, and Landscape Features on May 17, 2024. The section 106 regulations require that such program comments be published in the Federal Register.

I. Need for the Program Comment

The need for this Program Comment is based on the Army's obligation to provide safe, healthy, quality housing to Soldiers and their families, and the unique challenges the Army has in managing NHPA section 106 compliance for its large and growing inventory of historic housing. Housing and associated living conditions are critical factors for military families. A direct connection exists between poor housing conditions and military readiness. In 2019, the Secretary of the Army declared an Army Housing Crisis due primarily to widespread deficiencies and significant quality of life, health, and safety issues affecting military families living in historic Army housing.

To address the Army Housing Crisis and meet its housing obligations to military families, the Army must quickly and efficiently implement management actions to improve conditions in housing constructed before 1919. The section 106 project-by-project review process under existing installation-level Programmatic Agreements (PAs) contributes to delays in completing historic housing maintenance, repairs, and improvements needed for the transition in occupancy. Those delays directly impact the ability of reassigned military families to move into and occupy historic housing.

The compliance process efficiencies created by the Program Comment allows the Army to quickly and efficiently address the health and safety risks from certain hazardous historic building materials, ensure cost efficient, effective, and consistent management of the overall inventory, and implement climate adaptations and use modern resilient materials.

II. Pre-1919 Housing and the Program Comment

The Army owns, operates, and manages the largest inventory of historic housing in the federal government with over 30,000 historic homes currently over 50 years old and subject to NHPA section 106 compliance. Approximately 867 of these historic units were constructed prior to 1919, and over 70% of these pre-1919 units have been designated as National Historic Landmarks. The Army's inventory of pre-1919 housing is located at 19 installations in 13 states and the District of Columbia.

The design and construction of the vast majority of Army pre-1919 housing follows standardized plans developed by the Army Quartermaster Corps. These standardized plans reflected prevailing civilian architectural designs, construction techniques, and community planning trends of the time, with certain regional style variations and use of locally available materials. The resulting architectural styles of pre-1919 Army homes include Federal, Gothic Revival, Greek Revival, Italianate, Romanesque, Queen Anne, Colonial Revival, Spanish Revival, and Craftsman. These houses have been continuously occupied by Army families for 100 to 200 years and are actively used military assets.

The intent of the Program Comment is to provide the Army with NHPA section 106 compliance for repetitive, recurring property management actions on all privatized and non-privatized Army housing, associated buildings and structures, and landscape features constructed before 1919. The property management actions addressed by the Program Comment are maintenance, repair, rehabilitation, abatement of hazardous materials, mothballing, lease, transfer, and conveyance. The Program Comment also allows for the use of modern, industry-standard substitute materials. If the management actions are implemented in accordance with the Secretary of the Interior Standards for Rehabilitation, they will not result in an adverse effect.

This Program Comment implements the Secretary's Standards for Rehabilitation through the methodology and procedures in sections 7 and 8. These procedures consider the need to maintain the historic and architectural character of pre-1919 housing in a balanced priority with cost, climate resiliency, materials durability, and the health, safety, and quality of life considerations for military families living in pre-1919 housing. To further ensure that proper planning for and use of appropriate building materials occurs, this Program Comment includes two preservation planning documents: Design Guidelines for Pre-1919 Army Housing and Building Materials Guidelines and Catalog for Pre-1919 Army Housing incorporated as Appendices A and B, respectively.

III. Consultation on the Program Comment

The Army formally submitted this Program Comment to the ACHP on March 4, 2024. During the Army's consultation period, they sought participation from the public, State Historic Preservation Officers (SHPOs), Indian tribes, Native Hawaiian Organizations (NHOs), and other interested parties. The Army incorporated these into the Program Comment prior to formally submitting its request for a Program Comment to the ACHP.

In accordance with 36 CFR 800.14(e)(2)(3)(4), the ACHP conducted consultation with State Historic Preservation Officers (SHPOs), Tribal Historic Preservation Officers, Indian Tribes, and Native Hawaiian organizations and provided for public participation.

ACHP outreach consisted of broadcast emails, social media posts, and a dedicated website for the Program Comment. The ACHP conducted one virtual government-to-government consultation with Indian Tribes with a total of two participants. The ACHP conducted one virtual SHPO meeting with a total of 18 participants. Eight written comments were received. The ACHP also hosted a special Membership meeting. During consultation, the ACHP received substantive comments regarding the use of qualified historic preservation professionals in the implementation of the Program Comment, the definition of lease, transfer, and conveyance, the annual reporting requirements, new construction, and the inclusion of National Historic Landmarks.

Several consulting parties questioned how and when Secretary of the Interior (SOI) qualified professionals will be used in the implementation of the PC. ACHP staff revised the PC to use consistent language when referencing qualified historic preservation professionals, and to more clearly define their role when implementing the PC.

The definition of lease, transfer and conveyance was perceived as too broad and raised questions about how it could be misunderstood. ACHP staff worked with the Army to revise the definition of lease, transfer, and conveyance to clarify which specific actions are covered by the PC.

Consulting parties had concerns regarding the PC's duration and limited reporting requirements. ACHP staff and the Army revised the PC to require summary data in each ACHP Section 3 report until 2055, which is published every three years and is accessible by the public. The summary data will include items similar to the annual report, including any issues that arose when implementing the Program Comment, and how those problems were addressed, and an assessment of the overall effectiveness of the Program Comment.

The Guidelines for new construction as originally written were broad and could potentially have resulted in adverse effects. ACHP staff added parameters to limit new construction to landscape features and associated buildings such as garages and sheds, rather than new housing where none currently exists.

Consulting parties had concerns about the inclusion of National Historic Landmarks (NHL) in the PC and feel that it does not provide the higher standard of care as required in section 110 of the National Historic Preservation Act. However, if the management actions are completed following the procedures and guidelines in the PC, the results will not be adverse and will maintain the integrity of all properties, including NHLs. The ACHP has no reason to believe that the rehabilitation activities allowed under this PC will not be completed following the SOI Standards. Accordingly, use of the PC does not conflict with section 110(f).

ACHP Staff worked with the Army to address these comments and concerns. And all changes are reflected in the final text of the Program Comment.

IV. More Information

For further information on the Program Comment and the Army's Pre-1919 historic housing see: https://www.denix.osd.mil/army-pre1919-pchh/.

V. Clarification Regarding Army Housing Partners

The ACHP interprets the Program Comment to allow the Army to ensure compliance with its terms regarding privatized housing by imposing such requirements on its housing partners.

VI. Text of the Program Comment

Due to their length, the appendices of the issued Program Comment are not reproduced here. A copy of the full Program Comment with its appendices, and related information, can be found at: https://www.denix.osd.mil/army-pre1919-pchh/. The Program Comment with appendices is the document linked as “Program Comment Pre-1919 Army Housing” under the Administrative and Technical Documents column of the web page.

What follows is the text of the issued Program Comment, minus its appendices:

Program Comment for Preservation of Pre-1919 Historic Army Housing, Associated Buildings and Structures, and Landscape Features

1.0. Introduction

1.1. Summary

The Department of the Army (Army) is a large, complex Federal agency with a national defense mission to provide combat-ready military forces to deter war and protect the security of the United States. The Army's real property is a vital component of its national defense mission. As the largest military department in the Department of Defense (DoD), the Army manages the largest portfolio of historic buildings in the DoD and among all federal agencies.

Many of the buildings constructed by the Army over its 248-year history are now historic properties. Among Army historic properties, historic housing is a significant concern; it is a large part of the Army's total housing inventory, it is critical to the readiness mission and well-being of thousands of Soldiers and their families, and it requires substantial financial resources and process time for compliance with section 106 of the National Historic Preservation Act (NHPA). The Army also has a unique and significant challenge among federal agencies in managing NHPA section 106 compliance for its inventory of historic housing. The Army owns, operates, and manages the largest inventory of historic housing in the federal government with over 30,000 historic homes currently over 50 years old and subject to NHPA section 106 compliance.¹

¹ Additional information on historic Army housing in general is on the Army Historic Preservation and Cultural Resources Management website at https://www.denix.osd.mil/army-cr/.

The Army's 867 pre-1919 homes are located on 19 installations in 13 states and the District of Columbia.² The Army constructed its pre-1919 housing following standardized plans developed by the Army Quartermaster Corps. The Army's pre-1919 homes have been continuously occupied by Army families for 100 to 200 years, and 74% (638) of these homes are contributing properties in designated National Historic Landmark (NHL) districts. The Army's pre-1919 homes are actively used military assets with restricted access and are in general not open to the public.

² Specific information on pre-1919 Army housing is at https://www.denix.osd.mil/army-pre1919-pchh/.

The management of the vast majority of pre-1919 Army homes was privatized at Army installations beginning in 2004. NHPA compliance activities on installations with privatized housing have occurred following NHPA section 106 programmatic agreements (PA) executed between each installation and their respective State Historic Preservation Office (SHPO) at the time of privatization. The installation specific privatized housing PAs require project-by-project SHPO review and application of the Secretary of the Interior's Standards for the Treatment of Historic Properties at 36 CFR 68 (Secretary's Standards) for the repair and improvement of historic housing.

In 2019, the Army Inspector General ³ conducted an Army-wide review of privatized housing operations including a review of NHPA compliance for historic homes under the installation-level privatized housing PAs and the Secretary's Standards. The Army Inspector General found that the NHPA consultation process with SHPOs under the privatized housing PAs is highly procedural and time-consuming, creates a misperception that the SHPO has approval authority over renovations, historic homes are more costly to operate and maintain, are less energy efficient and require special materials and specially trained craftsmen, and health and safety concerns are present such as lead-based paint and asbestos. The Army Inspector General also found that historic homes are very costly to renovate due to strict rules about the craftsmanship and types of materials that can be used such as custom windows and custom roofing. These complicate repair and renovation projects and increase costs and the time to complete the work. The Army Inspector General also found that the rules and restrictions are variable both by individual home and by installation.

³ Department of the Army Inspector General Special Interest Item Assessment of the Residential Communities Initiative (RCI). ID Report 1903, 2019, at https://www.denix.osd.mil/army-pre1919-pchh/.

The installation-level privatized housing PAs and the Secretary's Standards as implemented by SHPOs and installations over the past 20 years have required the extensive use of high-cost historic building materials, in-kind building materials and specialized craftsmen for repairs and improvements. Implementation of those PAs has occurred without adequate consideration of the impact those high-cost materials have on the long-term ability to maintain and improve historic Army housing, nor has there been adequate consideration of the use of lower cost substitute building materials. The installation-level privatized housing PAs as they have been implemented has led to the inability to fully implement scopes of work to maintain, repair, and improve pre-1919 housing.⁴ The inability to fully implement scopes of work has contributed to a costly backlog of deferred maintenance, repairs, and improvements, which has led some pre-1919 NHL homes to be entirely vacated, others to be considered for demolition,⁵ and other pre-1919 homes to be mandated by Congress for demolition.⁶ Quality of life, health, and safety issues remain prevalent in pre-1919 Army housing. These issues include obsolete electrical, plumbing, and HVAC systems, structural issues, asbestos and lead-based paint hazards, restrictive and outdated floorplans, and a backlog of deferred maintenance, repairs, and improvements.

⁴ See Supplemental Information Briefing at https://www.denix.osd.mil/army-pre1919-pchh/.

⁵ The Kansas City Star. “89 historic Fort Leavenworth homes recommended for demolition” Eric Alder, 20 December 2023.

⁶ National Defense Authorization Act 2023, section 2104, Demolition of District of Columbia Fort McNair Quarters 4, 13, and 15.

The Army Inspector General recommended that the Assistant Secretary of the Army for Installations, Energy and Environment (ASA IE&E) evaluate the feasibility of continuing the installation specific PAs for historic housing. That evaluation led to consideration of the programmatic alternatives available in 36 CFR 800.14. The Army determined that a standardized nation-wide programmatic approach was the best course of action to ensure more consistent, efficient, and effective approach to NHPA compliance, rather than to continue to operate under the installation specific PAs. This approach was defined in the ASA IE&E's Strategic Agenda for National Historic Preservation Act Improvement ⁷ issued in July 2019.

⁷ Strategic Agenda for National Historic Preservation Act Improvement letter provided to the Advisory Council on Historic Preservation is posted at https://www.denix.osd.mil/army-pre1919-pchh/.

Installation-level privatized housing PAs and the Secretary's Standards have been implemented by installations and SHPOs over the past 20 years without a systematic approach and methodology for the selection of building materials. Also, adequate attention has not been paid by installations and SHPOs to the requirement that the Secretary's Standards must be applied in consideration of the economic and technical feasibility of each project.⁸ Further, the installation-level privatized housing PAs do not have any standardize process and procedures for consideration of the full range of available and appropriate building materials including alternative and less costly substitute building materials as provided for under the Secretary's Standards for Rehabilitation (36 CFR 68.3(b)). Nor do the privatized housing PAs include detailed design guidelines and a catalog of applicable building materials for pre-1919 homes. Additionally, the lengthy project-by-project consultations between installations and SHPOs required by installation-level PAs cause delays in occupancy of the housing, resulting in negative impacts to military families. This Program Comment for Preservation of Pre-1919 Historic Army Housing, Associated Buildings and Structures, and Landscape Features (Program Comment) directly addresses and remedies these issues.

⁸ Secretary of the Interior's Standards for Treatment of Historic Properties, 36 CFR 68.3.

This Program Comment is the Army's nationwide programmatic NHPA compliance solution to longstanding pre-1919 housing issues. It is responsive to the Army Inspector General's findings and recommendation, ensures that the economic and technical feasibility of each project is assessed as required by the Secretary's Standards, makes certain that the full range of building materials are considered through a systematic approach and standardized methodology that will help reduce the backlog of deferred maintenance, repairs, and improvements. Detailed design guidelines, and an extensive building materials guideline and catalog are incorporated into this Program Comment to support the building materials selection process. Qualified historic preservation professionals guide implementation, and the approach will improve process time and address the delays in occupancy of the housing by military families.

This Program Comment in its entirety minimizes harm and manages pre-1919 NHL housing to a higher standard of care than has occurred under installation level PAs over the past 20 years. This Program Comment is consistent with and implements the Secretary's Standards for Rehabilitation, and its effect on the Army's inventory of pre-1919 housing is not adverse. This Program Comment demonstrates that the Secretary's Standards for Rehabilitation when applied as intended have the flexibility to address quality of life, health, safety, climate resiliency, energy efficiency and other issues in a cost-effective manner. This Program Comment also reflects a shift occurring among historic preservation professionals to a more humanistic approach to historic preservation that prioritizes the needs of people living in and managing historic homes equally with preservation of the material integrity of the homes.⁹

⁹ The Relevancy Guidebook: How We Can Transform the Future of Preservation. Bonnie McDonald. Landmarks Illinois, November 2023.

1.2. Justification

NHPA section 106 requires Federal agencies to take into account the effects of projects they carry out, license, or assist (i.e., undertakings) on historic properties, and to provide the Advisory Council on Historic Preservation (ACHP) a reasonable opportunity to comment on such undertakings. The ACHP has issued regulations codified under 36 CFR 800 that set forth the process through which Federal agencies comply with the requirements of NHPA section 106.

Under 36 CFR 800.14(e), federal agencies can request the ACHP provide program comments on a category of undertakings, in lieu of conducting individual reviews of those undertakings under 36 CFR 800.4-800.7. An agency can meet its NHPA section 106 responsibilities regarding the effects of a category of undertakings on historic properties by following an ACHP-approved program comment.

ACHP's program comment guidance ¹⁰ states the primary benefit of program comments is they allow a federal agency to comply with section 106 of the NHPA in a tailored, consistent way for a class of undertakings rather than addressing each undertaking individually. This is especially useful for the Army considering the magnitude of its historic housing inventory and the many thousands of similar repetitive undertakings occurring to repair, maintain, and improve this large housing inventory. This Program Comment provides the Army with an alternative means to comply with NHPA section 106 regarding the category of undertakings termed management actions for its inventory of pre-1919 housing, associated buildings and structures, and landscape features (pre-1919 housing).

¹⁰ ACHP Program Comment Guidance https://www.achp.gov/program comment questions and answers.

The need for this Program Comment is driven by the Army's obligation to provide safe, healthy, quality housing to Soldiers and their families, and the unique challenges the Army has in managing NHPA section 106 compliance for its large inventory of historic housing. In 2019, the Secretary of the Army declared an Army Housing Crisis due primarily to the widespread deficiencies and significant quality of life, health, and safety issues affecting military families living in historic Army housing. These issues led to the Army Inspector General's investigation and continue to receive a high level of attention from Congress, senior military officials, and military family members residing in historic Army homes.

To meet its obligations to military families, the Army must implement specific management actions to improve pre-1919 housing conditions. The Army must improve the quality of life of Soldiers and their families, address the health and safety risks from certain hazardous materials found in historic housing, ensure cost efficient, effective, and consistent management of the inventory, and use climate resilient and energy efficient building materials. The Army must also improve the NHPA section 106 compliance processes time for projects that improve and preserve pre-1919 housing in order to reduce impacts to military families waiting to occupy the housing.

Housing and associated material living conditions are critical factors for military families in the context of the challenges and stressors Soldiers and their families must cope with in their daily lives. The Government Accountability Office ¹¹ found that a direct connection exists between poor housing conditions and military readiness. Concerns among service members about poor housing conditions have been found to make it difficult to focus on the military mission, some service members are leaving the military because of poor housing conditions, and the issue is also impacting the ability to recruit new service members.

¹¹ Government Accountability Office Report 20-281, Military Housing, March 2020.

For pre-1919 housing, the Army must abate the historic building materials used in housing from this period that present lead-based paint, asbestos, and other hazards to housing occupants; implement improvements and additions that address the need for modernization of living spaces; provide kitchen and bathroom improvements; implement climate change adaptations through the use of climate resilient and energy efficient building materials; implement other energy efficiency measures; modernize heating, cooling and ventilation systems; modernize plumbing and electrical systems; install modern life safety and protective elements such as fire suppression systems and force protection features; and address the project-by-project PA compliance review process that affects the rapid turnaround and occupancy of housing by military families.

The Army also has the need to lease, transfer, or convey pre-1919 housing to facilitate housing operations by its privatized housing partners under the Army's Residential Communities Initiative (RCI). RCI operates under Army authority on Army installations nationwide through legal partnerships between the Army and private sector real property managers. Lease, transfer, and conveyance under this Program Comment is only for the purposes of transfer of pre-1919 housing to and between RCI partners, and between RCI partners and the Army solely for the purposes of and use as military housing and for associated purposes that support military housing operations.

Addressing NHPA section 106 compliance requirements for the thousands of repetitive management actions occurring on this large inventory of pre-1919 housing presents unique and significant challenges for the Army. According to the ACHP Program Comment Guidance, the program comment approach as provided for in 36 CFR 800.14(e) was established to address situations such as this, where a federal agency has repetitive actions occurring within a large inventory of historic properties.

The Army's three prior ACHP-approved program comments for historic housing (Program Comment for Army Inter-War era housing (1919-1940), Program Comment for Army Capehart-Wherry Housing (1949-1962), and the Program Comment for Army Vietnam War Era housing (1963-1975)) provide the Army the ability to implement management actions in a more efficient, consistent, and cost-effective manner.¹² These prior program comments have in turn preserved the historic character of the housing, improved the quality of life, health, and safety of the military families living in historic Army housing, saved millions of dollars in rehabilitation costs for reinvestment into additional rehabilitation efforts, and ensure that historic Army housing will be preserved as a viable and sustainable military real property asset. The Army needs a similar efficient, consistent, and cost-effective means to manage its inventory of pre-1919 homes.

¹² See information at https://www.denix.osd.mil/army-pchh/, https://www.denix.osd.mil/army-vwehh-pc/, and ACHP section 106 Success Story: Capehart Wherry Housing Challenge Spurred Innovative Solution at https://www.achp.gov/success-stories/capehart-wherry-army-housing.

1.3. Coordination and Public Involvement

Issues related to implementation of installation privatized housing PAs were identified by the Army Inspector General, Army housing managers, and Army privatized housing partners.¹³ As a result of its investigation, the Army Inspector General recommended that the ASA IE&E assess the feasibility of continuing the installation specific PAs for historic housing. The Strategic Agenda for National Historic Preservation Act Improvement ¹⁴ issued in July 2019 by the ASA IE&E responded to the Army Inspector General's recommendation. It directs the Army Federal Preservation Officer (FPO) to pursue programmatic Army-wide NHPA section 106 compliance solutions, with the ACHP to achieve greater efficiencies in NHPA section 106 compliance for historic housing.

¹³ See Supplemental Information Briefing at https://www.denix.osd.mil/army-pre1919-pchh/.

¹⁴ Strategic Agenda for National Historic Preservation Act Improvement. July 26, 2019. https://www.denix.osd.mil/army-pre1919-pchh/.

To implement the strategic agenda for pre-1919 housing, the Army's leadership began discussions in June 2023 with the ACHP Chair and other key stakeholders. On 15 June 2023, the ASA IE&E held a forum at Fort McNair, Washington, DC with senior leaders in historic preservation to discuss pre-1919 Army housing NHPA compliance issues. Stakeholders present at the 15 June 2023 forum included the Assistant Secretary of Defense for Energy, Installations, and Environment; Assistant Secretary for Fish and Wildlife and Parks, Department of the Interior; Chairman, ACHP; Chairman, National Capital Planning Commission; Associate Director, Cultural Resources, Partnerships, and Science, National Park Service (NPS); Executive Director, ACHP; and the Executive Director, National Conference of State Historic Preservation Officers (NCSHPO). There was general agreement among attendees that a nationwide programmatic NHPA section 106 compliance approach to pre-1919 Army housing was needed.

On 20 July 2023, as a follow-up to the Fort McNair meeting, the Army FPO held a consultation meeting with the ACHP Executive Director, NCSHPO Executive Director, and the NPS Associate Director to obtain their views on specific programmatic NHPA section 106 compliance approaches for pre-1919 housing. On 24 August 2023, the Army FPO again met with the representatives from ACHP, NPS, and NCSHPO to further discuss a program alternative for pre-1919 Army housing. Also on 24 August, the Army FPO had a separate follow-on discussion with the ACHP Executive Director. On 19 September 2023, the Army FPO officially notified the ACHP Executive Director of the Army's decision to seek a program comment for its inventory of pre-1919 housing.

On October 23, 2023, the Army published a notice of availability in the Federal Register ¹⁵ seeking public comment on its Program Comment Plan for Preservation of Pre-1919 Historic Army Housing, Associated Buildings and Structures, and Landscape Features. Also on October 23, 2023, the Army FPO sent a notification to over 800 stakeholders including all SHPOs, all Tribal Historic Preservation Officers, tribal leaders from all Federally recognized tribes, Native Hawaiian Organizations, and non-governmental historic preservation advocacy organizations informing them of the Federal Register notice and the 30-day public comment period on the program comment plan. The Army FPO also invited all of the over 800 stakeholders to participate in the Army's ensuing program comment consultation conferences. During November and December 2023, the Army FPO held a series of six in-depth consultation conferences with all interested parties addressing the scope of the Program Comment, category of undertakings, likely effects on historic properties, steps to take effects into account, the duration of the Program Comment, among other relevant topics. The Army prepared an administrative record of all comments on the program comment plan formally submitted by interested parties and provided that administrative record to the ACHP.

¹⁵ Federal Register/Vol. 88, No. 203/72743. 23 October 2023. Department of the Army Notice of Availability Program Comment Plan for Preservation of Pre-1919 Historic Army Housing, Associated Buildings and Structures, and Landscape Features.

2.0. Goal, Objective, and Intent of the Program Comment

2.1. Goal

The Army's goal for the Program Comment is to obtain programmatic compliance with NHPA section 106 for the repetitive management actions occurring on this large inventory of pre-1919 historic housing by means of the program comment alternative procedure under 36 CFR 800.14(e). In accordance with 36 CFR 800.14(e), the Army will implement this program comment and management actions in lieu of conducting individual project-by-project reviews.

2.2. Objective

The objective of the Program Comment is to achieve the goal in a manner that provides the appropriate balance between preservation of the housing and the efficient, consistent, and cost-effective management of the housing in order to improve of the quality of life, health, and safety of the Army families. The goal and objective are met by the ACHP's adoption of the Program Comment and the Army's implementation of it for its management actions.

2.3. Intent

This Program Comment recognizes that among federal agencies, the Army faces a unique and significant NHPA section 106 compliance challenge due to the magnitude of its inventory of historic housing.

This Program Comment recognizes that the Army's pre-1919 homes are actively used military assets with restricted access and are in general not open to the public.

The Army recognizes that its pre-1919 housing is eligible for and listed in the National Register of Historic Places (NRHP), and that many pre-1919 Army homes are contributing properties in designated NHL districts.

This Program Comment meets the requirements of NHPA section 110(f) by planning and taking necessary action that minimize harm to pre-1919 NHLs to the maximum extent possible and provides a higher standard of care for NHL housing than is currently occurring.

This Program Comment is consistent with the Secretary of the Interior's Standards for Rehabilitation (36 CFR 68.3(b)). It provides for the compatible use of the properties through repairs, alterations, and additions, while preserving those portions or features which convey historical, cultural, and architectural values.

This Program Comment covers a category of undertakings termed management actions and affirms that the effect of those management actions on pre-1919 Army housing are not adverse as addressed in this Program Comment.

This Program Comment implements the Secretary's Standards for Rehabilitation through the methodology and procedures in sections 7 and 8, and by application of the Design Guidelines for Pre-1919 Army Housing and the Building Materials Guidelines and Catalog for Pre-1919 Army Housing in appendices A and B.

This Program Comment recognizes that the Secretary of the Interior's Standards must be applied in consideration of the economic and technical feasibility of each project per 36 CFR 68.3.

This Program Comment recognizes that the Secretary's Standards for Rehabilitation allow for the use of substitute building materials when the use of historic building materials and in-kind building materials is not reasonably possible in consideration of the economic and technical feasibility of projects.

This Program Comment recognizes that the appended Design Guidelines for Pre-1919 Army Housing and Building Materials Guidelines and Catalog for Pre-1919 Army Housing are applicable guidelines (as referenced in 36 CFR 800.5(a)(2)(ii)) implementing the Secretary's Standards for Rehabilitation for pre-1919 Army housing.

This Program Comment provides a systematic, standardized building materials selection procedure with guidelines that ensure the balanced consideration of repair of historic building materials or, where repair is not possible, the use of in-kind building materials or substitute building materials in management actions.

This Program Comment ensures that qualified historic preservation professionals support its implementation.

This Program Comment recognizes that intensifying climate risks and the ACHP's Policy Statement on Climate Change and Historic Preservation may necessitate the use of modern climate resilient substitute building materials.

This Program Comment recognizes that substitute building materials are reversible and may be replaced with in-kind building materials to minimize any diminishment of historic integrity.

This Program Comment recognizes that the compilation and analysis of original Army Quartermaster Corps housing design plans, extensive historic context documentation, and the Historic American Building Survey (HABS) architectural documentation of pre-1919 Army housing are suitable and appropriate mitigation measures. These Program Comment mitigation documents are located in a single centralized public site at https://www.denix.osd.mil/army-pre1919-pchh/.

3.0. Scope of the Program Comment

The Program Comment applies to management actions for all of the Army's pre-1919 housing, associated buildings and structures, and landscape features, both privatized and Army-owned. The best available information indicates there are 867 pre-1919 homes located on 19 installations in 13 states and the District of Columbia. Among these, there are 10 installations where pre-1919 housing has been designated as individual or contributing properties to NHL Districts. The installations and numbers of pre-1919 homes are: Fort Leavenworth, KS 269 homes; Fort Riley, KS 109; Fort Sam Houston, TX 91; West Point, NY 84; Fort Sill, OK 73; Fort Bliss, TX 39; Fort Huachuca, AZ 38; Presidio of Monterey, CA 37; Fort Myer, VA 34; Fort McNair, Washington DC 27; Carlisle Barracks, PA 18; US Army Garrison HI/Fort Shafter, 17; Watervliet Arsenal, NY 8; Rock Island Arsenal, IL 6; Fort Hamilton, NY 6; Picatinny Arsenal, NJ 6; Fort Detrick, MD 2; Arlington National Cemetery, VA and DC 2; and Fort Moore, GA 1.

4.0. Description of Property Type

Standardized plans developed by the Army Quartermaster Corps were followed for the design and construction of the vast majority of Army pre-1919 housing. Army Quartermaster Corps standardized plans reflected prevailing civilian architectural designs, construction techniques, and community planning trends of the time, with certain regional style variations and use of locally available materials. The Army has documented mitigation measures for pre-1919 housing.

The mitigation documentation ¹⁶ includes historic contexts, a documentary history with an extensive compilation and analysis of original Quartermaster Corps plans and drawings including exterior and interior floorplans for pre-1919 homes, and many HABS documents recording the architectural design and features of pre-1919 Army housing in detail. The Army has posted these mitigation documents on the website https://denix.osd.mil/army-pre1919-pchh/. Additional information on the Army's inventory of NHLs is also available in the Army's historic preservation story-map at https://www.denix.osd.mil/army-cr/.

¹⁶ National Historic Context for Department of Defense Installations, 1790-1940, Volumes I-4. DoD Legacy Resource Management Program Project 92-0075 (1995). A Study of United States Army Family Housing Standardized Plans, Volumes 1-5., Grashof, B. (1986). Context Study of the United States Quartermaster General Standardized Plans 1866-1942. Army Corps of Engineers, Seattle District (1997).

Historic context information is extensive and includes social, economic, and military factors influencing pre-1919 home design. Army Quartermaster Corps housing standardization began in earnest after the close of the Civil War. From 1866 on the Army began its evolution into a modern military force as it abandoned its small temporary frontier posts and consolidated troops into larger regional installations. The need for new, larger, permanent installations required a higher degree of planning and design for buildings as well as post-wide site plans.

When the Army began to contract this work to civilian architects, mid-nineteenth century American architectural designs began to influence both Army building and Army installation designs. The Army Quartermaster Corps standardization of house plans incorporated versions of nationally popular architectural styles. Civilian builder's handbooks, also known as pattern books, were used as source books by the Quartermaster Corps housing design staff.¹⁷ The resulting architectural styles of pre-1919 Army homes include Federal, Gothic Revival, Greek Revival, Italianate, Romanesque, Queen Anne, Colonial Revival, Spanish Revival, and Craftsman. Following design trends of the time, the Army Quartermaster Corps also developed standardized plans for landscaping, neighborhood design, circulation patterns, and the design of installations.

¹⁷ A Study of United States Army Family Housing Standardized Plans, Volumes 1-5., Grashof, B. (1986).

5.0. National Historic Landmarks

5.1. Pre-1919 Army NHL Housing and NHL Requirements

Of the Army's 867 historic pre-1919 homes, 74% (638) of these homes at ten installations are contributing properties in designated NHL districts. The ten installations with NHL districts are: Fort Leavenworth, KS 269 homes; Fort Sam Houston, TX 91; West Point, NY 84; Fort Sill, OK 73; Fort Huachuca, AZ 38; Fort Myer, VA 34; Carlisle Barracks, PA 18; US Army Garrison HI/Fort Shafter, 17; Watervliet Arsenal, NY 8; Rock Island Arsenal, IL 6. These ten NHL designations by the Department of the Interior/National Park Service are consolidated and published on the Program Comment website at https://denix.osd.mil/army-pre1919-pchh/.

NHLs are designated by the Secretary of the Interior under the authority of the Historic Sites Act of 1935. The Historic Sites Act authorizes the Secretary of the Interior to identify historic buildings, and other sites and objects that possess exceptional value in commemorating or illustrating the history of the United States. NHPA section 110(f) Planning and actions to minimize harm to National Historic Landmarks states that prior to the approval of any Federal undertaking that may directly and adversely affect any NHL, the Federal agency will to the maximum extent possible undertake such planning and actions as may be necessary to minimize harm to the landmark. The Federal agency also must afford the ACHP and the Secretary of the Interior/National Park Service a reasonable opportunity to comment with regard to the adverse effect undertaking.

The Secretary of the Interior's Standards and Guidelines for Federal Agency Historic Preservation Programs Pursuant to the National Historic Preservation Act (63 FR 20496) provide the National Park Service's guidance to federal agencies for their preservation programs and treatment of NHLs. The standard and guidelines at 4(j) National Historic Landmarks states that Federal agencies exercise a higher standard of care when considering undertakings that may directly and adversely affect NHLs. Standard 4 states when alternatives to avoid an adverse effect on NHLs appear to require undue cost or to compromise the undertaking's goals and objectives, the agency must balance those goals and objectives with the intent of section 110(f).

The regulations implementing NHPA section 106 include specific procedural provisions for NHLs at 36 CFR 800.10. The regulation requires federal agencies to request the ACHP participate in any consultation regarding adverse effects to NHLs, and to also invite the Secretary of the Interior/National Park Service to participate in those consultations.

5.2. Standard of Care for Pre-1919 Army NHL Housing and Districts

This Program Comment confirms that the effects of its management actions on pre-1919 Army housing including pre-1919 NHL housing and districts are not adverse. Through its conformance with and implementation of the Secretary of the Interior Standards for Rehabilitation by means of the approach, methodology, and procedures in sections 7 and 8 and guidelines in appendices A and B, this Program Comment provides a more effective NHPA section 106 compliance solution for NHLs than is currently in place under installation-level PAs (as discussed in section 1). The Program Comment supports full implementation of scopes of work for maintenance, repairs, and improvements to NHL housing by ensuring that the full range of appropriate and cost-effective building materials are considered through a systematic approach and standardized methodology. This in turn will reduce the backlog of deferred maintenance, repairs, and improvements, alleviating issues that lead to vacancy and considerations to demolish pre-1919 NHL homes. It also demonstrates a more efficient, cost-effective, programmatic solution for rehabilitation of pre-1919 Army housing to help avoid additional statutory mandates to demolish pre-1919 Army housing.

Further, the standard set of management actions in the Army's three prior Program Comment procedures for historic housing approved by the ACHP include the following adverse effect actions: cessation of maintenance, demolition, and new construction not in accordance with the Secretary's Standards for Rehabilitation. The Army is excluding adverse effect actions from this Program Comment. Such adverse effect actions will be addressed outside of this Program Comment through the process in 36 CFR 800.4-800.7, and 36 CFR 800.10 for NHLs.

Due to the special considerations required by NHPA section 110 for NHLs and properties with national level significance, the Army is holding this Program Comment for pre-1919 housing to a higher standard of care than has occurred under installation level PAs and under prior Program Comment procedures for historic Army housing.

6.0. Category of Undertaking and Effects on Historic Properties

The category of undertaking for this Program Comment is management actions. Management actions are defined for the purposes of this Program Comment as maintenance, repair, rehabilitation, abatement of hazardous materials, mothballing, lease, transfer, and conveyance. This Program Comment is consistent with and implements the Secretary's Standards for Rehabilitation at 36 CFR 68.3(b). When implemented following its substantive and procedural requirements, this Program Comment and the effects of those management actions on pre-1919 Army housing are not adverse.

The regulation at 36 CFR 800.5 cites criteria for adverse effect. “An adverse effect is found when an undertaking may alter, directly or indirectly, any of the characteristics of a historic property that qualify the property for inclusion in the National Register in a manner that would diminish the integrity of the property's location, design, setting, materials, workmanship, feeling, or association.” The adverse effect example in 36 CFR 800.5 relevant to this Program Comment is alteration of a property that is not consistent with the Secretary's Standards (36 CFR 68), and applicable guidelines. This Program Comment is consistent with and implements the Secretary's Standards for Rehabilitation. The Design Guidelines for Pre-1919 Army Housing and the Building Materials Guidelines and Catalog for Pre-1919 Army Housing appended to this Program Comment are applicable guidelines. This Program Comment will maintain the integrity of pre-1919 housing and historic district location, design, setting, materials, workmanship, feeling, and association consistent with the Secretary's Standards.

This Program Comment implements a systematic approach and standardized methodology with specific procedures for selection of appropriate building materials that consider the economic and technical feasibility of each project. It utilizes detailed Design Guidelines for Pre-1919 Army Housing and a Building Materials Guideline and Catalog for Pre-1919 Army Housing (in appendices A and B) to support the materials selection process.

7.0. Approach and Methodology

7.1. Implementation of the Secretary's Standards for Rehabilitation

In carrying out the management actions under this Program Comment, the Army, or RCI housing partner where housing is privatized will implement the Secretary's Standards for Rehabilitation (36 CFR 68.3(b)), taking into consideration the economic and technical feasibility of each project by means of the procedure in section 8 and with reference to the applicable guidelines in appendices A and B. The Secretary's Standards for Rehabilitation state:

(1) A property will be used as it was historically or be given a new use that requires minimal change to its distinctive materials, features, spaces and spatial relationships;

(2) The historic character will be retained and preserved. The removal of distinctive materials or alteration of features, spaces and spatial relationships that characterize a property will be avoided;

(3) Each property will be recognized as a physical record of its time, place and use. Changes that create a false sense of historical development, such as adding conjectural features or elements from other historic properties, will not be undertaken;

(4) Changes to a property that have acquired historic significance in their own right will be retained and preserved;

(5) Distinctive materials, features, finishes and construction techniques or examples of craftsmanship that characterize a property will be preserved;

(6) Deteriorated historic features will be repaired rather than replaced. Where the severity of deterioration requires replacement of a distinctive feature, the new feature will match the old in design, color, texture and, where possible, materials. Replacement of missing features will be substantiated by documentary and physical evidence;

(7) Chemical or physical treatments, if appropriate, will be undertaken using the gentlest means possible. Treatments that cause damage to historic materials will not be used;

(8) Archeological resources will be protected and preserved in place. If such resources must be disturbed, mitigation measures will be undertaken;

(9) New additions, exterior alterations or related new construction will not destroy historic materials, features and spatial relationships that characterize the property. The new work will be differentiated from the old and will be compatible with the historic materials, features, size, scale and proportion, and massing to protect the integrity of the property and its environment; and

(10) New additions and adjacent or related new construction will be undertaken in such a manner that, if removed in the future, the essential form and integrity of the historic property and its environment would be unimpaired.

As stated in National Park Service Preservation Brief 16 The Use of Substitute Materials on Historic Building Exteriors,¹⁸ the Secretary's Standards for Rehabilitation generally require historic features be repaired rather than replaced. Standard 6 of the Secretary's Standards for Rehabilitation states that when replacement of a distinctive feature is necessary, the new feature must “match the old in composition, design, color, texture, and other visual properties, and, where possible, materials.” While the use of in-kind materials to replace historic building materials is preferred under the Standards for Rehabilitation, those Standards also purposely recognize that flexibility is needed when it comes to the use of substitute building materials. Substitute building materials that match the visual and physical properties of historic materials have been successfully used by the Army on many rehabilitation projects under the Program Comment for Army Inter-War Era housing in ways that are consistent with the Standards for Rehabilitation.¹⁹

¹⁸ Preservation Brief 16 The Use of Substitute Materials on Historic Building Exteriors, National Park Service, September 2023.

¹⁹ See the Annual Reports submitted to the ACHP for the Program Comment for Army Inter-War Era Housing (1919-1940) at https://www.denix.osd.mil/army-pchh/.

The Secretary's Standards for Rehabilitation standards (9) and (10) allow for new additions, exterior alterations or related new construction that are in accordance with those specified standards. The Guidelines for Rehabilitation, Additions, Exterior Alterations, and Adjacent or Related Construction in Appendix A of this program comment implements those requirements.

In order to ensure consistency with the Secretary's Standards for Rehabilitation, the Army, or RCI housing partner where housing is privatized will implement the Secretary's Standards for Rehabilitation through the preservation planning guidelines in appendices A and B, will take the economic and technical feasibility of each project into consideration by following the procedures in section 8, and will have qualified historic preservation professionals available to support application of the Secretary's Standards for Rehabilitation and the building materials selection process.

7.2. Preservation Planning Guidelines in Appendices A and B

The Army or RCI partner where housing is privatized will plan for the selection and use of appropriate building materials in the repair and rehabilitation of pre-1919 Army housing. Specific building material selection procedures are established in section 8 of this Program Comment that consider the need to maintain the historic and architectural character of pre-1919 housing in a balanced priority with cost, climate resiliency, materials durability, and the health, safety, and quality of life considerations for military families living in pre-1919 housing. To further ensure that proper planning for and use of appropriate building materials occurs, this Program Comment also provides for support from qualified historic preservation professionals (see section 11) and includes two preservation planning documents: Design Guidelines for Pre-1919 Army Housing and Building Materials Guidelines and Catalog for Pre-1919 Army Housing incorporated as Appendices A and B, respectively.

The Design Guidelines for Pre-1919 Army Housing in Appendix A provide specific information regarding pre-1919 housing architectural styles and identify character-defining features and design elements associated with the pre-1919 architectural styles. Character-defining features include the overall shape, style, and design of the building, decorative details, interior spaces and features, as well as its associated buildings and structures, and landscape features. The Design Guidelines for Pre-1919 Army Housing include detailed guidance for rehabilitation and features such as windows and doors, entrances, porches, roofs, foundations and walls, interiors, interior structural systems, historic designed landscapes and features, historic districts, circulation systems, associated buildings and structures, as well as guidance on mothballing of housing, emergency repairs and disasters, and actions related to military force protection requirements.

The Building Materials Guidelines and Catalog for Pre-1919 Army Housing in Appendix B is used in concert with the Design Guidelines for Pre-1919 Army Housing. The Building Materials Guidelines and Catalog provides additional specificity on building materials and their use. The Building Materials Guidelines and Catalog provides information to assist in selecting the appropriate building materials that maintain the historic and architectural character of the housing and meet cost and technical feasibility requirement of the Secretary's Standards. Catalog entries are provided for major components of pre-1919 housing design. Design considerations for each catalog entry are derived from the design fundamentals of scale, mass, proportion, and materials. This provides the guidance for selection of appropriate materials and component designs that factor location, type, size, finish and maintenance into their selection. Focus is on appropriate design, applicable materials, and performance characteristics with emphasis on retention of overall housing design integrity.

The Building Materials Guidelines and Catalog includes in-kind, and substitute building materials. A range of modern substitute building materials are included for considerations related to economic feasibility and technical feasibility such as material durability, energy efficiency, and climate resiliency. Cost and durability are factors relevant for example to the selection of in-kind wood windows or windows made of substitute materials such as vinyl. As stated in National Park Service Preservation Brief 16, the poor quality of available commercial supplies of lumber no longer provides the denser, more decay-resistant wood of old-growth forests. Due to the poor quality of available lumber used in the manufacture of in-kind wood windows, modern vinyl windows are as or more durable than today's in-kind wood windows. This is made clear by the manufacturer warranty periods provided for vinyl windows which are as long or longer than the manufacturer warranties for in-kind wood windows.²⁰ Vinyl windows can also provide an adequate visual replication of the historic windows, cost significantly less than in-kind wood windows, have a shorter turn-around time for manufacture and installation, improve energy efficiency, and have lower long-term maintenance requirements.

²⁰ See Supplemental Information Briefing at https://www.denix.osd.mil/army-pre1919-pchh/.

As stated in National Park Service Preservation Brief 16, when a substitute building material is used for replacement, a loss in integrity can sometimes although not always occur. That situation is mitigated by the fact that substitute building materials are reversible and can be replaced with in-kind materials at any point in time. Additionally, the support of qualified historic preservation professionals (see section 11) in the building materials selection process and monitoring of management actions by the Army FPO will ensure that the historic character of pre-1919 housing and historic districts is maintained.

7.3. Consideration of Interior Spaces

The Army has extensive documentation and recordation of the interiors of pre-1919 housing. The original floorplans designed by the Army Quartermaster Corps for pre-1919 housing have been collected, categorized, reproduced, and analyzed in A Study of United States Army Family Housing Standardized Plans, Volumes 1-5, (Grashof, B., 1986), posted at https://www.denix.osd.mil/army-pre1919-pchh/. The Army also has 77 HABS documents for pre-1919 housing posted at https://www.denix.osd.mil/army-pre1919-pchh/ which represent a sample of over 10% of the Army's pre-1919 housing units. The housing selected for HABS documentation are the most representative examples of this category of Army housing and records their setting, interiors, and exteriors. The extensive historical documentation and analysis of original floorplans combined with the HABS recordation of pre-1919 Army housing are suitable and appropriate mitigation measures for this Program Comment.

The Army's pre-1919 homes have been continuously occupied by Army families for 100 to 200 years and the original interior floorplans have all been modified. Current floorplans include rooms that were not features of the original Quartermaster Corps design, new walls and partitions have been added to expand kitchens and to create bathrooms and closets that were not features of original construction. Additions have been made, floors, walls, and ceilings have been cut through and modified to add plumbing, electrical service, and heating and ventilation ductwork, plaster walls have been replaced with drywall, paint and plaster have been removed to create a new appearance. Some of the homes have had complete renovations prior to enactment of the NHPA; for example, Quarters 1 is a pre-1919 home at Fort Myer, Virginia documented to have been “completely renovated” in 1953.²¹

²¹ Quarters 1, Fort Myer. General Condition and Programmed Improvements. June 20, 1967. Fort Myer Quarters 1, HABS documentation package, posted at https://www.denix.osd.mil/army-pre1919-pchh/.

The Secretary's Standards for Rehabilitation state that changes to a property that have acquired historic significance in their own right will be retained and preserved. The significance of the interiors of pre-1919 Army housing is that they represent such changes in terms of the ongoing evolution of interior spaces in response to changing technological, military, and quality of life, health, and safety requirements, and interior design trends. To maintain their significance, the interiors must continue to develop and change in response to changing military, technological, and social needs, and such changes will acquire future historic significance in their own right. The interiors of pre-1919 Army housing could be adversely affected if their development were frozen at an arbitrary point in time.

The Design Guidelines for Pre-1919 Army Housing in Appendix A contain Guidelines for Interiors. In consideration of the above, the Guidelines for Interiors state that where the existing interior floorplan does not accommodate current technological, military, or quality of life, health, and safety requirements, floorplan reconfiguration is acceptable if implemented in accordance with the Guidelines. The Guidelines for Interiors requires the retention of interior features that are important in defining the overall historic character of the building to the extent possible. Interior character-defining features include columns, cornices, baseboards, crown molding, fireplaces and mantels, stairs, and ceiling height. Before removing interior walls that would result in a loss of historic features, the Army or Army housing partner where the housing is privatized will first consider options to retain those interior walls and historic features. If, following consideration of the economic and technical feasibility of the project, the Army or Army housing partner where the housing has been privatized must proceed with the removal of interior walls, they will consider retaining historic features. When in situ preservation of such historic features is not possible, the Army or Army housing partner will retain such historic features through salvage and will preserve those features through reuse on other similar housing at that location, to the maximum extent possible.

8.0. Procedure for Building Materials Assessment and Selection

8.1. Building Materials Selection Procedure Summary

The Army or RCI partner where housing is privatized, will implement the following building materials selection procedure in support of management actions and with the assistance of qualified historic preservation professionals, as needed. The procedure first evaluates the character and condition of the historic building material and considers if the repair of historic building material is financially and technically feasible. If repair of historic building materials is not feasible, in-kind building materials or substitute building materials are considered for replacement of historic building materials with reference to the Design Guidelines for Pre-1919 Army Housing and Building Materials Guidelines and Catalog for Pre-1919 Army Housing in appendices A and B. Section 11 of this Program Comment ensures qualified historic preservation professionals are available to support implementation of the building materials selection procedure. This procedure ensures preservation of the integrity of pre-1919 housing and historic districts to the maximum extent possible by a thorough consideration of character defining features, design, materials, workmanship, feeling, and association.

8.2. Building Materials Selection Procedure

Prior to execution of a project under an applicable management action, the following step-by-step procedure will be implemented by the Army or by the RCI partner where housing is privatized with the assistance of qualified historic preservation professionals, as needed:

(1) Characterize the historic building materials present in terms of condition, design, material properties, performance, safety, and presence of hazards such as lead-based paint, asbestos, and other hazardous materials;

(2) Determine if historic building materials can be repaired or if they must be replaced due to technical and financial feasibility factors. Consider health and safety factors, availability of historic materials and/or skilled craftsmen, need to improve quality of life, climate resiliency, energy efficiency. Assess financial feasibility and determine if costs of repair will impede full implementation of scope of the project;

(3) If replacement is required, determine if there are material characteristics of the historic building materials that should be improved upon;

(4) Identify potential in-kind building materials and substitute building materials with reference to appendices A and B. Compile a short list of potential in-kind building materials and/or substitute building materials;

(5) Determine the technical feasibility of the potential in-kind and substitute materials by evaluating quality of life, health and safety considerations, climate resiliency, energy efficiency, long-term durability of materials;

(6) Determine the financial feasibility of the potential in-kind and substitute materials through an assessment of the project budget and consideration of materials and labor costs to ensure full implementation of the project. Cost assessment should also include consideration of historic preservation tax credits; and

(7) Select the appropriate in-kind building material or substitute building material and use the selected material in the management action.

To ensure management actions follow the building materials selection procedure, Design Guidelines for Pre-1919 Army Housing, and the Building Materials Guidelines and Catalog for Pre-1919 Army Housing, the Army Federal Preservation Officer (FPO) will:

(1) Ensure installations and Army privatized housing partners with pre-1919 housing have access to the building materials selection procedure in this Program Comment, the Design Guidelines for Pre-1919 Army Housing (Appendix A), and the Building Materials Guidelines and Catalog for Pre-1919 Army Housing (Appendix B);

(2) Ensure that qualified historic preservation professionals are available to support the building materials selection process and application of the Secretary Standards for Rehabilitation as implemented through appendices A and B, and to provide on-site monitoring for activities under this Program Comment;

(3) Maintain oversight of the Design Guidelines for Pre-1919 Army Housing and the Building Materials Guidelines and Catalog for Pre-1919 Army Housing and update the Building Materials Guidelines and Catalog Pre-1919 Army Housing as new applicable building materials become available; and

(4) Make the Program Comment, Design Guidelines for Pre-1919 Army Housing and Building Materials Guidelines and Catalog for Pre-1919 Army Housing publicly available on the Army's pre-1919 Program Comment website.

9.0. Historic Preservation Tax Credits

The Army FPO will advise its RCI privatized housing partners that pre-1919 housing rehabilitation may be eligible for Federal and State historic preservation tax credits. Additional information may be found at the National Park Service Historic Preservation Tax Incentives page https://www.nps.gov/subjects/taxincentives/index.htm, and at the Internal Revenue Service web page https://www.irs.gov/businesses/small-businesses-self-employed/rehabilitation-tax-credit-real-estate-tax-tips. Individual states may also offer similar state-level tax incentive programs for historic building rehabilitation and additional information on state-level historic preservation tax incentive programs may be obtained from the relevant State Historic Preservation Office. It is noted that the National Park Service approves federal tax act rehabilitation projects that include use of substitute building materials.

10.0. Annual Report and Annual Meeting

The Army FPO will provide an annual report to the ACHP for the previous reporting year regarding activities under this Program Comment. The annual report will identify any significant issues that may have arisen while implementing the Program Comment, how those were addressed, and how they may be avoided in the future. The annual report will also include an assessment of the overall effectiveness of the Program Comment in meeting its intent, and a summary of professional assistance and compliance monitoring activities. Annual reporting will occur for five years beginning from the date of the ACHP Federal Register notice of issuance of this Program Comment.

Following submission of an annual report, or upon the ACHP's request, the Army will schedule a meeting with the ACHP and any other ACHP identified invitees to discuss implementation of the Program Comment. The meeting provides an opportunity for attendees to provide their views on the overall effectiveness of the Program Comment in meeting its intent and purpose. Annual meetings may take place in-person, by phone, virtually using electronic meeting platforms, or any combination of such means.

After the first five years of annual reporting and for the remaining duration of this program comment, information on implementation of this program comment will be reported every three years through the Army's submission to the ACHP Section 3 Report to the President under Executive Order (E.O.) 13287 Preserve America. Similar to the annual reports, the Section 3 Report will identify significant issues that may have arisen while implementing the Program Comment, how those were addressed, and how they may be avoided in the future. The report will also include an assessment of the overall effectiveness of the Program Comment in meeting its intent.

11.0. Professional Assistance by Qualified Experts

The Army FPO will provide for professional assistance and monitoring of activities under this Program Comment by qualified historic preservation experts. Professional assistance will be available to the Army's RCI partners by experts that meet qualification standards published in 36 CFR part 61 for architectural history, architecture, historic architecture, or history. Professional assistance will include on-site technical support, on-call technical support, and on-site assistance visits and monitoring.

The Army FPO will provide the contact information of the qualified historic preservation professionals to the RCI privatized housing partners. The technical expert support includes review of the requirements under this Program Comment, support for implementation of the Secretary's Standards for Rehabilitation and the building materials selection process, use of appendices A and B, and monitoring and reporting on activities implemented under this Program Comment. The Army FPO will ensure that a minimum of five annual on-site technical assistance and monitoring visits occur each reporting year for installations with privatized pre-1919 housing. On-call technical assistance will also be available to the Army's RCI partners via telephone, email, and virtual meetings. The historic preservation professional assistance and on-site monitoring activities will be reported in each Annual Report.

12.0. Applicability and Implementation

The Program Comment applies to all privatized and non-privatized pre-1919 Army housing, associated buildings and structures, and landscape features. Where pre-1919 housing has been privatized, Army privatized housing partners are responsible for implementing this Program Comment and all management actions following the procedures herein. Where housing has not been privatized, or when there is a reversion of leased or otherwise conveyed pre-1919 housing from a privatized management entity back to the Army, Army installation personnel will implement all management actions following this Program Comment.

The Army, or RCI partner where housing is privatized will implement the management actions in accordance with this Program Comment in lieu of conducting individual project reviews under 36 CFR 800.4-800.7 or installation PAs, Memoranda of Agreement (MOAs), or Army Alternate Procedures (AAP). This Program Comment supersedes and replaces the requirements in all Army installation PAs, MOAs, and AAPs pertaining to management actions for pre-1919 housing, associated buildings and structures, and landscape features. The Army and its privatized housing partners will implement this Program Comment in lieu of all PA, MOA, and AAP requirements and procedures previously applicable to the management actions for pre-1919 Army housing, associated buildings and structures, and landscape features. To further clarify Program Comment implementation, existing PAs, MOAs, and AAPs are not voided, rather the Program Comment simply replaces the requirements applicable to pre-1919 housing management actions in existing agreements with the requirements of this Program Comment.

The Program Comment is a stand-alone NHPA section 106 compliance document approved by the ACHP. PAs, MOAs, and AAPs shall not be developed or amended to “implement” the Program Comment. The terms of the Program Comment are not subject to any change, amendment, or further consultation through PAs, MOAs, AAPs, or other NHPA-related actions. Changes to the terms of the Program Comment can only be made following the amendment procedures in section 14 this program comment.

The Army or RCI partner where housing is privatized will also implement the Program Comment in lieu of any procedures, environmental management plans, guidelines, reporting requirements, Integrated Cultural Resources Management Plans, and all other installation documents, standards, procedures, or guidelines pertaining to pre-1919 housing, associated buildings and structures, and landscape features.

The Army or RCI partner where housing is privatized will not implement any further historic property identification, evaluation, or documentation in connection with pre-1919 housing and the management actions covered by the Program Comment. Pre-1919 Army housing is adequately identified, evaluated, and documented by the referenced mitigation documents at https://denix.osd.mil/army-pre1919-pchh/.

Army pre-1919 housing and historic districts are the equivalent of similar historic housing developments in the civilian sector. As such, there is significant prior ground disturbance in pre-1919 housing areas resulting from the original construction the housing and subsequent improvements over the past 100 to 200 years including overall grading for the original construction, housing construction, construction of associated buildings and structures, road and sidewalk construction, installation of above and below ground utilities, landscaping, construction of recreational structures, and other ground disturbing actions that have occurred after original construction. Such areas of extensive ground disturbance associated with housing development are generally considered to have a low probability for the presence of NRHP eligible archeological properties. No further efforts to identify archeological properties or other historic properties will be conducted in connection with the implementation of Program Comment management actions.

The Army, or RCI partner where housing is privatized will protect known archeological resources and preserve them in place whenever possible. If such resources must be disturbed, mitigation measures will be undertaken by the Army. If implementation of any management actions under this Program Comment may cause damage, physical destruction, or change in the physical features of all or any part of a known NRHP-eligible archeological site or property of traditional religious and cultural importance to Federally recognized Indian tribes or Native Hawaiian Organizations, those effects will be addressed by the Army following the procedures in 36 CFR 800.4-800.7 in consideration of applicable principles in the ACHP Policy Statement on Burial Sites, Human Remains, and Funerary Objects, or by following procedures in an applicable installation PA. The unanticipated discovery of a NRHP eligible archeological property or human remains during implementation of management actions will be addressed following the procedures in 36 CFR 800.13, or by following the unanticipated discovery procedures in an applicable installation PA, and/or by following the compliance procedures of the Native American Graves Protection and Repatriation Act, as applicable.

The Program Comment is not applicable to pre-1919 housing, associated buildings and structures, and landscape features that have previously been determined to be not eligible for inclusion in the NRHP in accordance with 36 CFR 800.4(c)(2), an applicable NHPA agreement document, or by a determination of eligibility pursuant to 36 CFR 63. If at a future date pre-1919 housing, associated buildings and structures, and landscape features previously determined not eligible for inclusion in the NRHP are reassessed and subsequently determined to be eligible for inclusion in the NRHP, NHPA section 106 compliance for those properties shall occur by means of this Program Comment.

13.0. Effect and Duration

This Program Comment will remain in effect from the date of adoption by the ACHP through December 31, 2055, unless prior to that time the Army determines that such comments are no longer needed and notifies the ACHP in writing, or the ACHP withdraws the Program Comment in accordance with 36 CFR 800.14(e)(6). Following such withdrawal, the Army will be required to comply with section 106 through the process in 36 CFR 800.4-800.7, or an applicable program alternative under 36 CFR 800.14, for each individual undertaking formerly covered by this Program Comment.

The effective period for the Program Comment coincides with the term of the ground leases that have been executed with the Army's privatized housing partners under the RCI program. Upon termination of the ground lease, ownership of all RCI partnership owned improvements including all housing that is located within the boundaries of the ground lease is automatically conveyed back to the Army. On or prior to December 31, 2055, the Army and the ACHP will meet to determine whether to consider an extension to the term of this Program Comment.

14.0. Program Comment Amendment and Withdrawal

The ACHP may formally amend this Program Comment after consulting with the Army and other parties as it deems appropriate.

14.1. Amendment by Chair, ACHP

The Chair of the ACHP, after notice to the rest of the ACHP membership and the Army may amend this Program Comment to extend its duration. The ACHP will notify the Army and will publish notice in the Federal Register regarding such amendment within 30 days after their issuance.

14.2. Amendment by Executive Director, ACHP

The Executive Director of the ACHP, after notice to the ACHP membership and the Army may amend this Program Comment to adjust due dates and make corrections of grammatical and typographical errors. The ACHP will notify the Army and will publish notice in the Federal Register regarding such amendments within 30 days after their issuance.

14.3. Other Amendments

Amendments to this Program Comment not covered by sections 14.1 or 14.2, above, will be subject to ACHP membership approval.

14.4. Withdrawal of the Program Comment

If the ACHP determines that treatment of Army pre-1919 housing is not being carried out in a manner consistent with this Program Comment, the ACHP may withdraw the Program Comment. The Chair will then notify the Army and will publish notice in the Federal Register regarding withdrawal of the Program Comment within 30 days of the decision to withdraw. If this Program Comment is so withdrawn, the Army shall comply with the requirements of 36 CFR 800.4-800.7, or an applicable program alternative, for individual undertakings covered by this Program Comment.

15.0. Definitions

The following definitions apply for the purposes of the Program Comment:

Abate or abatement means actions to eliminate, lessen, reduce, or remove hazardous and toxic materials, and unsafe conditions.

Army Pre-1919 historic housing is all privatized and non-privatized Army housing, with construction completed prior to January 1, 1919, located on an Army installation, a joint base, or managed by the Army or by an Army privatized housing partner including those operating under the RCI program. The terms housing, pre-1919 housing, and pre-1919 historic Army housing are used interchangeably in the Program Comment and mean all Army pre-1919 historic housing, associated buildings and structures, landscapes and landscape features, and neighborhoods. Quarters 18 at Palm Circle, Fort Shafter, HI constructed in 1924 is included in this Program Comment to ensure consistent treatment of the housing in this predominantly pre-1919 historic district.

Army pre-1919 neighborhood means a geographical area, district, development, community, subdivision, or locality on an installation that is characterized by and comprised predominantly of Army pre-1919 housing, associated buildings and structures, and landscapes and landscape features.

Associated buildings and structures includes detached garages, carports, storage buildings, above and below ground utilities and service systems including water, sewage, storm water, gas, and electrical service systems, tennis courts, pools, all buildings and structures associated with recreational and athletic activities, playgrounds and playground equipment, all other recreational buildings and structures, gazebos, fencing, community centers, shelters, associated ancillary facilities that support housing, and any and all other buildings, structures, and objects associated Army pre-1919 housing located within Army pre-1919 housing neighborhoods.

Associated ancillary purposes that support housing operations (reference Lease, transfer, and conveyance) refers to the use of pre-1919 housing, buildings, and structures for purposes such as offices including rental offices for privatized housing partners, community centers, public safety offices that service the housing areas, and other purposes that support housing operations and residents of pre-1919 housing.

Climate resilient building materials means, for the purposes of this Program Comment, modern building materials that are used to retrofit historic buildings in order to better withstand and recover from the negative impacts of climate change including extreme weather events. Climate resilient building materials help minimize those impacts on people and on the costs to retrofit and repair historic buildings, while preserving their historic character as much as possible.

Economic feasibility means a determination if the estimated costs of a proposed project including consideration of the project's available budget, the cost of building materials, labor, and other considerations, may jeopardize the viability and complete implementation of the full scope and all parts of the proposed project. The term economic feasibility is used interchangeably with financial feasibility and cost feasibility for the purposes of this Program Comment.

Financial feasibility see definition of economic feasibility.

Health and safety hazards means housing that has any of the following conditions: damaged roofs or walls; non-functional or poorly functioning mechanical systems; unsafe common areas such as stairs; significant rodent, insect, or mold infestations; lead based paint exposure risks; asbestos exposure risks; risk of exposure to other chemical or environmental hazards; violations of health and safety codes and standards; damages due to fire, flooding, or natural disasters; and other conditions that present health hazards or make the housing unsafe or uninhabitable.

Historic building materials means building materials that were used in the initial construction of pre-1919 housing, and/or for designated NHLs, all materials within the period of significance.

Historic character means the same as the terms usage in The Secretary of the Interior's Standards for the Treatment of Historic Properties at 36 CFR 68.

Historic designed landscapes and features are landscapes and their features that were designed or laid out by a landscape architect, master gardener, architect, or horticulturist according to design principles, and retain significant character-defining features of their original design.

Historic district means a geographically definable area that possesses a significant concentration of historic buildings, associated buildings and structures, and objects united historically by plan or physical development that area eligible for inclusion or that are included in the NRHP.

Historic property means buildings, sites, structures, objects, and districts that are eligible for inclusion or that are included in the NRHP.

Homes and housing units are used interchangeably for the purposes of this Program Comment.

Imitative substitute building materials means modern, industry standard, natural, composite, and synthetic materials that that simulate the appearance, physical properties, and related attributes of historic materials well enough to make them alternatives for use when historic building materials require replacement. The terms imitative substitute building materials and substitute building materials are used interchangeably for the purposes of this Program Comment and apply to both interior and exterior building materials.

In-kind building materials means new building materials that are identical to historic building materials in all possible respects, including their composition, design, color, texture, and other physical and visual properties.

Landscape features and landscapes includes the overall design and layout of the pre-1919 housing neighborhoods including roadway circulation systems and patterns, plantings and landscaping, gardens, open spaces, playgrounds, recreational landscape features including but not limited to recreational and athletic fields, golf courses, fencing, parking areas, signage, site furnishings, parade grounds, lighting, sidewalks and curbing, driveways, setbacks, historic designed landscapes and features, all visual elements and viewsheds into pre-1919 housing and neighborhoods and out from pre-1919 housing and historic districts into other historic properties and districts, any and all other landscape features present in pre-1919 housing and historic districts, and any archeological properties or features associated with pre-1919 housing construction. The term landscape features as used in the Program Comment is inclusive of all landscapes and landscape features in pre-1919 historic districts.

Lease, transfer, and conveyance means the execution of lease, transfer, and conveyance documents for lease, possession, management, operation, and transfer of pre-1919 housing solely for the purposes of and use as housing and associated ancillary purposes that support housing operations. The terms of this Program Comment apply to any such lease, transfer, and conveyance. The RCI ground lease requires the lessee (i.e., the limited liability corporation whose members include the Army and the privatized housing partner) to comply with all applicable laws and regulations. As the requirements of the Program Comment constitute applicable law and regulation, lessee compliance with the Program Comment is required. As new ground leases on which pre-1919 housing is located are prepared, or as such existing ground leases are amended, an explicit requirement to comply with this Program Comment will be added. In the event of a conflict or inconsistency between a lease, transfer, and conveyance document and the Program Comment, with respect to the obligations pursuant to sections 106 of the NHPA, the terms of this Program Comment shall govern.

Maintenance and repair means activities required to maintain the interior and exterior of housing, mechanical systems, and all interior and exterior building features, elements, and materials in an operational state, or to bring them back to operating condition by repair or replacement of obsolete, broken, damaged, or deteriorated mechanical systems, features, elements, and materials on housing interiors or exteriors.

Management actions means maintenance, repair, rehabilitation, abatement of hazardous materials, mothballing, and lease, transfer, and conveyance.

Mechanical systems means heating, ventilation, air conditioning, plumbing, and electrical systems, and the individual elements and components of each system.

Mitigation measures means any existing, new, or updated materials or actions that serve to address, reduce, minimize, or otherwise mitigate adverse effects on historic properties, and may include research reports, historical documentation, recordation, and other materials and activities.

Mothballing means an action to close and deactivate housing and/or associated buildings and structures for an extended period, with the intent that the property would be brought back to a mission supporting operational status at some future time.

National Historic Landmark means historic properties formally designated by the Secretary of the Interior under the authority of the Historic Sites Act of 1935, that possess exceptional value in commemorating or illustrating the history of the United States.

Physical properties means overall size, dimensions, and visual appearance.

Privatized housing means Army housing that has been privatized under the Army's Residential Communities Initiative (RCI). The RCI operates on Army installations through the operation of legal partnerships between the Army and private sector developers. At each installation where RCI housing is located, the Army conveys ownership of existing housing and leases land to the RCI partnership. The RCI partnership with the Army then operates and manages the conveyed housing and leased lands for military housing purposes.

Professional assistance or qualified historic preservation professional means assistance from an individual who meets the Professional Qualification Standards previously published in 36 CFR 61 in the field of architectural history, architecture, historic architecture, or history.

Rehabilitation means, in accordance with the Secretary of the Interior's Standards for Rehabilitation at 36 CFR 68.3(b), the act or process of making possible an efficient compatible use for pre-1919 housing through repair, alterations and additions while preserving those portions or features that convey its historical, cultural or architectural values. Includes actions to improve energy efficiency and climate resiliency, address obsolete, damaged, deteriorated, or defective interior and exterior building materials and elements, and make other changes to improve the quality of life, health, and safety of residents. Rehabilitation includes additions, exterior alterations, and adjacent or related new construction allowed under the Secretary of the Interior's Standards for Rehabilitation (9) and (10), provided they are in accordance with the design guidelines in appendix A.

Substitute building materials means modern, industry standard, natural, composite, and synthetic materials that simulate the appearance, physical properties, and related attributes of historic materials well enough to make them alternatives for use when historic building materials require replacement. The terms substitute building materials and imitative substitute building materials are used interchangeably for the purposes of this Program Comment and apply to both interior and exterior building materials.

Technical feasibility means an assessment of relevant factors to determine if an action, project, or product is suitable, practical, viable, and can be successfully implemented. For the purposes of this program comment, technical feasibility factors include quality of life, health, safety, climate resiliency, energy efficiency, durability of building materials, and compliance process time.

Texture means the visual surface appearance of building materials.

To the maximum extent possible means implementation of actions to the extent capable of being carried out with reasonable effort taking into account economic and technical feasibility.

Viewshed includes all the area visible from a particular location, viewing point, or series of viewing points. It includes all visual elements and surrounding points that are in the line of sight from any location, viewing point, or series of viewing points and excludes all points and locations that are not visible and/or are obstructed by terrain, other natural features, man-made features, and points beyond the horizon.

16.0. Appendices

Appendix A—Design Guidelines for Pre-1919 Army Housing ²²

²² From Design Guidelines for Department of Defense Historic Buildings and Districts. Heather McDonald and Michelle Michael. August 2008. DoD Legacy Program Project 07-382.

Appendix B—Building Materials Guidelines and Catalog for Pre-1919 Army Housing ²³

²³ Prepared by R. Christopher Goodwin & Associates.

The Design Guidelines in Appendix A and the Building Materials Catalog in Appendix B, along with the building materials selection procedure in section 8 are the means whereby the Army implements the Secretary's Standards for Rehabilitation. The guidelines in Appendix A and B were prepared with the assistance of qualified experts that meet qualification standards published in 36 CFR part 61 for architectural history, architecture, historic architecture, or history. [As mentioned above, due to their length, the appendices of the issued Program Comment are not reproduced here. A copy of the full Program Comment with its appendices, and related information, can be found at: https://www.denix.osd.mil/army-pre1919-pchh/. The Program Comment with appendices is the document linked as “Program Comment Pre-1919 Army Housing” under the Administrative and Technical Documents column of the web page.]

Authority: 36 CFR 800.14(e).

Dated: June 10, 2024.
Javier Marques,
General Counsel.

[FR Doc. 2024-13045 Filed 6-12-24; 8:45 am]

BILLING CODE 4310-K6-P